DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of December, 2002.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) that sales or production, or both, of the firm or sub-division have decreased absolutely, and

(3) that increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-42,357; Consol Energy, Reno Lake Mine, Sesser, IL.

In the following cases, the investigation revealed that the criteria for eligibility have not been met for the reasons specified.

Increased imports did not contribute importantly to worker separations at the firm.

TA-W-42,154; Dana Corp., Traction Technologies Group, Jonesboro, AR.

The investigation revealed that criterion (a)(2)(A) (1.B) (Sales or production, or both did not decline) and (a)(2)(B) (II.B) (No shift in production to a foreign country) have not been met.

TA-W-50,008; Storage Technology Corp., Minneapolis Research and Development Center, Brooklyn Park, MN.

The investigation revealed that criterion (a)(2)(A) (I.C.) (Increased imports) and (a) (2)(B) (II.A and B) (No employment declines; No shift in production to a foreign country) have not been met.

TA-W-50,056; Ehlert Tool Company, New Berlin, WI.

The workers firm does not produce an article as required for certification under Section 222 of the Trade Act of 1974.

TA-W-50,276; SuperValu, Belle Vernon, PA.

TA-W-50,184; Corning Cable Systems, LLC, Business Operation.

The investigation revealed that criteria (2) has not been met. The workers' firm (or subdivision) is not a supplier or downstream producer for trade-affected companies.

TA-W-50,255 & A,B; Aurora Systems, Inc., Erie, PA, Rochester, NY and Buffalo, NY.

Affirmative Determinations for Worker Adjustment Assistance

The following certifications have been issued; the date following the company name and location of each determination references the impact date for all workers of such determination.

TA-W-42,345; General Electric Industrial Systems Components Plant, Plainville, CT: October 7, 001.

TA-W-42,341; Pomona Paper Co., a Subsidiary of APC Paper Co., Inc., Pomona, CA: October 24, 2001.

TA-W-42,318; Eagle Clothing Co., Los Angeles, CA: October 15, 2001.

TA-W-42,282; Ohmite Manufacturing Co., C.T. Gamble Acquisition Corp., d/b/a C.T. Gamble Industries, Delanco, NJ: October 4, 2001.

TA-W-42,176; Georgia-Pacific Lumber Corp., Western Lumber Operations, Fort Bragg, CA: August 23, 2001.

TA-W-42,077; Bijur Lubricating Corp., Bennington, VT: August 20, 2001.

The following certifications have been issued. The requirements of (a)(2)(A) (increased imports) of section 222 have been met.

TA-W-50,305; Burgess Norton Manufacturing Co., Div. of Amsted Industries, DeKalb, IL: December 11, 2001.

TA-W-50,284; Newell Rubbermaid Corp., Levelor Hardware Group, Amerock Hardware Div., Bulldog Hardware Div., Ogdenburg, NY: November 27, 2001.

TA-W-50,216; Carney Products Co., LTD, a Subsidiary of Flannery-Comerford, Inc., St. Maries, ID: November 13, 2001.

TA-W-50,175 and A; T.L. Diamond and Company, Inc., New York and Eagle Zinc Co., a Subsidiary of T.L. Diamond and Co., Inc., Hillsboro, IL: November 22, 2001.

TA-W-50,171; J K. Tool and Die, Inc., Apollo, PA: November 22, 2001.

TA-W-50,094; Chiquola Industrial Products Group LLC, Honea Path, SC: November 5, 2001.

TA-W-50,012; PD Wire and Cable, a Subsidiary of Phelps Dodge Industries, a Subsidiary of Phelps Dodge Corp., Laurinburg, NC: November 5, 2001.

TA-W-50,009 and A; Dodger Industries, Inc., Eagle Grove, IA and Eldora, IA: November 4, 2001.

The following certifications have been issued. The requirements of (a)(2)(B) (shift in production) of section 222 have been met.

TA-W-50,226; Technicolor Virginia, Ruckersville, VA and Charlottesville, VA: November 21, 2001.

TA-W-50,202; General Electric Co., Glass Plant, Bridgeville, PA: November 19, 2001.

TA-W-50,155; PCC Airfoils, LLC, Douglas, GA: November 18, 2001.

TA-W-50,110; Emerson Motor Co., Sturgeon Bay, WI: November 12, 2001.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the months of December, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-07558; Dana Corp., Traction Technologies Group, Jonesboro, AR.

The investigation revealed that the criteria for eligibility have not been met for the reasons specified.

The investigation revealed that the workers of the subject firm did not produce an article within the meaning of section 250(a) of the Trade Act, as amended.

NAFTA-TAA-07653; Genesis Communications, Inc., San Diego, CA.

The investigation revealed that criteria (1) has not been met. A significant number or proportion of the workers in such workers' firm or an appropriate subdivision (including workers in any agricultural firm or appropriate subdivision thereof) did not become totally or partially separated from employment as required for certification.

NAFTA-TAA-06912; State of Alaska Commercial Fisheries Entry Commission Permit #57954M, New Stuyahok, AK.

NAFTA-TAA-07451; Permit #58117F, South Naknek, AK.

NAFTA-TAA-06884; Permit #64750, Naknek, AK.

Affirmative Determinations NAFTA-TAA

NAFTA-TAA-07661; Hawker Power Systems, Inc., a Subsidiary of Enersys, Inc., Springfield, MO: September 18, 2001.

NAFTA-TAA-07629; Shipping Systems, Inc., a Subsidiary of Bancroft Bag, Crossett, AR: October 21, 2001.

NAFTA-TAA-07589; Georgia-Pacific Lumber Corp., Western Lumber Operations, Fort Bragg, CA: September 27, 2001.

NAFTA-TAA-06209; Schlumberger Oilfield Services, Webster, TX: May 16, 2001.

I hereby certify that the aforementioned determinations were issued during the months of December, 2002. Copies of these determinations are available for inspection in Room C-5311, U.S. Department of Labor, 200 Constitution Avenue, NW., Washington, DC 20210 during normal business hours or will be mailed to persons who write to the above address.

Dated: January 2, 2003.
Edward A. Tomchick,
Director, Division of Trade Adjustment Assistance.

[FR Doc. 03-415 Filed 1-8-03; 8:45 am]

BILLING CODE 4510-30-P